DEPARTMENT OF COMMERCE

International Trade Administration

[A-570-806]

Silicon Metal From the People's Republic of China: Final Results of Antidumping Duty Administrative Review; 2014-2015

AGENCY: Enforcement and Compliance, International Trade Administration, Department of Commerce.

SUMMARY: On March 14, 2016, the Department of Commerce (the “Department”) published the preliminary results of the 2014-2015 administrative review (“AR”) of the antidumping duty order on silicon metal from the People's Republic of China (“PRC”). See Silicon Metal From the People's Republic of China: Preliminary Results of Antidumping Duty Administrative Review; 2014-2015, 81 FR 13326 (March 14, 2016) (“Preliminary Results”). The period of review (“POR”) is June 1, 2014, through May 31, 2015. The AR covers two PRC exporters of subject merchandise, Shanghai Jinneng International Trade Co. Ltd. (“Shanghai Jinneng”) and Shanghai Jinfeng Hardware Plastics Co. Ltd. (“Shanghai Jinfeng”). The Department invited interested parties to comment on the Preliminary Results. We received comments from Globe Metallurgical Inc. (“Petitioner”) which agreed with our Preliminary Results in the administrative review. No other party commented. Accordingly, our final results remain unchanged from the Preliminary Results.

DATES: Effective July 20, 2016.

FOR FURTHER INFORMATION CONTACT: Aleksandras Nakutis, AD/CVD Operations, Office IV, Enforcement and Compliance, International Trade Administration, U.S. Department of Commerce, 14th Street and Constitution Avenue NW., Washington, DC 20230; telephone: (202) 482-3147.

SUPPLEMENTARY INFORMATION:

Background

As noted above, on March 14, 2015, the Department published the Preliminary Results of the AR of the antidumping duty order on silicon metal from the PRC covering the period June 1, 2014, through May 31, 2015. On April 13, 2015, Petitioner filed briefs in the AR. No other parties submitted comments on the Preliminary Results in the AR.

Scope of the Order

The merchandise covered by the order is silicon metal containing at least 96.00 percent, but less than 99.99 percent of silicon by weight. Also covered by the order is silicon metal containing between 89.00 and 96.00 percent silicon by weight but which contains a higher aluminum content than the silicon metal containing at least 96.00 percent but less than 99.99 percent silicon by weight (58 FR 27542, May 10, 1993). Silicon metal is currently provided for under subheadings 2804.69.10 and 2804.69.50 of the Harmonized Tariff Schedule (“HTS”) as a chemical product, but is commonly referred to as a metal. Semiconductor-grade silicon (silicon metal containing by weight not less than 99.99 percent of silicon and provided for in subheading 2804.61.00 of the HTS) is not subject to this order. Although the HTS numbers are provided for convenience and customs purposes, the written description remains dispositive.

Analysis of the Comments Received

Petitioner's case brief addressed no issues beyond agreeing with the Department's preliminary findings and draft customs instructions. In the Preliminary Results, the Department determined that the two companies under review, Shanghai Jinneng and Shanghai Jinfeng, did not establish their eligibility for separate rate status and would be treated as part of the PRC-wide entity.¹ In these final results of review, we have continued to treat these two companies as part of the PRC-wide entity. We are adopting the Preliminary Decision Memorandum as the Final Issues and Decision Memorandum. The Preliminary Decision Memorandum is a public document and is on file electronically via Enforcement and Compliance's Antidumping and Countervailing Duty Centralized Electronic Service System (“ACCESS”). ACCESS is available to registered users at http://access.trade.gov and in the Central Records Unit, room B8024 of the main Department of Commerce building. In addition, a complete version of the Preliminary Results Decision Memorandum can be accessed directly on the Internet at http://enforcement.trade.gov/frn/index.html. The signed and the electronic versions of the Preliminary Decision Memorandum are identical in content.

¹ See Preliminary Results.

Assessment Rates

Pursuant to section 751(a)(2)(C) of the Tariff Act of 1930, as amended (“the Act”), and 19 CFR 351.212(b), the Department has determined, and U.S. Customs and Border Protection (“CBP”) shall assess, antidumping duties on all appropriate entries of subject merchandise in accordance with the final results of this review. The Department intends to issue assessment instructions to CBP 15 days after the publication date of the final results of this review. We intend to instruct CBP to liquidate POR entries of subject merchandise exported by Shanghai Jinneng and Shanghai Jinfeng at the PRC-wide entity rate, which is 139.49 percent.

Cash Deposit Requirements

The following cash deposit requirements will be effective upon publication of the final results of this review for shipments of the subject merchandise from the PRC entered, or withdrawn from warehouse, for consumption on or after the publication date in the Federal Register of the final results of the review, as provided by section 751(a)(2)(C) of the Act: (1) For previously investigated or reviewed PRC and non-PRC exporters not named above that received a separate rate in a prior segment of this proceeding, the cash deposit rate will continue to be the existing exporter-specific rate; (2) for all PRC exporters of subject merchandise that have not been found to be entitled to a separate rate, including Shanghai Jinneng and Shanghai Jinfeng, the cash deposit rate will be the rate for the PRC-wide entity, which is 139.49 percent; (3) for all non-PRC exporters of subject merchandise which have not received their own rate, the cash deposit rate will be the rate applicable to the PRC exporter that supplied that non-PRC exporter.

These deposit requirements, when imposed, shall remain in effect until further notice.

Notification to Importers

This notice also serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

Administrative Protective Order

This notice also serves as a reminder to parties subject to administrative protective order (“APO”) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

This notice of the final results of this antidumping duty administrative review is issued and published in accordance with sections 751(a)(1) and 777(i) of the Act and 19 CFR 351.213 and 19 CFR 351.221(b)(5).

Dated: July 11, 2016.
Ronald K. Lorentzen,
Acting Assistant Secretary for Enforcement and Compliance.

[FR Doc. 2016-16948 Filed 7-19-16; 8:45 am]

BILLING CODE 3510-DS-P